DEPARTMENT OF HOUSING AND URBAN DEVELOPMENT

[Docket No. FR-7024-N-06]

30-Day Notice of Proposed Information Collection: Section 202 Supportive Housing for the Elderly Application Submission Requirements, OMB Control No. 2502-0267

AGENCY: Office of the Assistant Secretary for Housing—Federal Housing Commissioner, HUD.

ACTION: Notice.

SUMMARY: HUD is seeking approval from the Office of Management and Budget (OMB) for the information collection described below. In accordance with the Paperwork Reduction Act, HUD is requesting comment from all interested parties on the proposed collection of information. The purpose of this notice is to allow for an additional 30 days of public comment.

DATES: Comments Due Date: March 31, 2020.

ADDRESSES: Interested persons are invited to submit comments regarding this proposal. Comments should refer to the proposal by name and/or OMB Control Number and should be sent to: Colette Pollard, Reports Management Officer, QDAM, Department of Housing and Urban Development, 451 7th Street SW, Room 4176, Washington, DC 20410-5000; telephone 202-402-3400 (this is not a toll-free number) or email at Colette.Pollard@hud.gov for a copy of the proposed forms or other available information. Persons with hearing or speech impairments may access this number through TTY by calling the toll-free Federal Relay Service at (800) 877-8339.

FOR FURTHER INFORMATION CONTACT: Katonia Jackson, Systems Support Manager, Office of Multifamily Housing, Office of Recapitalization, Department of Housing and Urban Development, 451 7th Street SW, Washington, DC 20410; email Katonia at katonia.l.jackson@hud.gov or telephone (202) 402-8380. This is not a toll-free number. Persons with hearing or speech impairments may access this number through TTY by calling the toll-free Federal Relay Service at (800) 877-8339.

Copies of available documents submitted to OMB may be obtained from Ms. Pollard.

SUPPLEMENTARY INFORMATION: This notice informs the public that HUD is seeking approval from OMB for the information collection described in Section A. A Federal Register notice for the 60 day was published May 22, 2019 at 84 FR 23578.

A. Overview of Information Collection

Title of Information Collection: Section 202 Supportive Housing for the Elderly Application Submission Requirements.

OMB Approval Number: 2502-0267.

Type of Request: Reinstatement with change, of previously approved collection.

Form Number: Form SF-424, Form HUD-92015-CA, Form HUD-2530, Form HUD-2880, Form HUD-2993, Form HUD-92041, Form HUD-92042, Standard Form LLL.

Description of the need for the information and proposed use: This is a reinstatement with changes of a previously approved collection that expired per the Consolidated Appropriations Act of 2018 which appropriated $105,000,000 for new capital advances and project-rental assistance contracts. Under the new appropriation, the Section 202 program has been redesigned to (1) strategically target funds to the most vulnerable elderly persons with the greatest unmet housing needs, and (2) select the most effective sponsors that could achieve positive outcomes in the most expeditious manner. Therefore, we have updated the total annual cost burden to respondents and the annualized costs to the Federal government to reflect current costs.

Respondents (i.e., affected public): Eligible applicants and any co-sponsors must be private, nonprofit organizations and nonprofit consumer cooperatives with tax exempt status under Internal Revenue Service code.

Estimated Number of Respondents: 150.

Estimated Number of Responses: 13,150.

Frequency of Response: Annual, dependent on new Congressional appropriation.

Average Hours per Response: 40.

Total Estimated Burden: 5,295.

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond; including through the use of appropriate automated collection techniques or other forms of information technology, e.g., permitting electronic submission of responses.

HUD encourages interested parties to submit comment in response to these questions.

Authority: Section 3507 of the Paperwork Reduction Act of 1995, 44 U.S.C. Chapter 35.

Dated: January 22, 2020.
Colette Pollard,
Department Reports Management Officer, Office of the Chief Information Officer.

[FR Doc. 2020-01879 Filed 1-30-20; 8:45 am]

BILLING CODE 4210-67-P